DEPARTMENT OF TRANSPORTATION

Federal Aviation Administration

Notice of Intent To Rule on Request To Release Airport Property at Myrtle Beach International Airport, Myrtle Beach, SC

AGENCY: Federal Aviation Administration (FAA), DOT.

ACTION: Notice and request for comment.

SUMMARY: The FAA proposes to rule and invites public comment on the release of land at Myrtle Beach International Airport, Myrtle Beach, SC.

DATES: Comments must be received on or before August 30, 2018.

ADDRESSES: Comments on this application may be mailed or delivered to the FAA at the following address: Aimee McCormick, Federal Aviation Administration, Atlanta Airports District Office, 1701 Columbia Ave., Ste. 220, College Park, GA 30337.

In addition, one copy of any comments submitted to the FAA must be mailed or delivered to: Kirk Lovell, Director of Air Service and Business Development, Horry County Department of Airports, 1100 Jetport Rd., Myrtle Beach, SC 29577.

FOR FURTHER INFORMATION CONTACT: Aimee McCormick, Federal Aviation Administration, Atlanta Airports District Office, 1701 Columbia Ave., Ste. 220, College Park, GA 30337, aimee.mccormick@faa.gov. The request to release property may be reviewed, by appointment, in person at this same location.

SUPPLEMENTARY INFORMATION: The FAA invites public comment on the request to release 2 acres of airport property at Myrtle Beach International Airport (MYR) under the provisions of 49 U.S.C. 47107(h)(2).

On May 23, 2018 the Horry County Department of Airports requested the FAA release of 2 acres of property for sale and development of an outpatient medical clinic. FAA has determined that the proposed property release at Myrtle Beach International Airport (MYR), as submitted by Horry County Department of Airports, meets the procedural requirements of the Federal Aviation Administration and release of the property does not and will not impact future aviation needs at the airport. The FAA may approve the request, in whole or in part, no sooner than thirty days after the publication of this notice.

The following is a brief overview of the request:

Myrtle Beach International Airport (MYR) is proposing the release of airport property totaling 2 acres to be developed and used for an outpatient medical clinic. The release of land is necessary to comply with Federal Aviation Administration Grant Assurances that do not allow federally acquired airport property to be used for non-aviation purposes. The sale of the subject property will result in the land at Myrtle Beach International Airport (MYR) being changed from aeronautical to non-aeronautical use and release the lands from the conditions of the Airport Improvement Program Grant Agreement Grant Assurances. In accordance with 49 U.S.C. 47107(c)(2)(B)(i) and (iii), the airport will receive fair market value for the property, which will be subsequently reinvested in another eligible airport improvement project for aviation facilities at Myrtle Beach International Airport.

Any person may inspect, by appointment, the request in person at the FAA office listed above under FOR FURTHER INFORMATION CONTACT. In addition, any person may, upon appointment and request, inspect the application, notice and other documents determined by the FAA to be related to the application in person at Myrtle Beach International Airport.

Issued in Atlanta, GA, on July 23, 2018.
Larry F. Clark,
Manager, Atlanta Airports District Office.

[FR Doc. 2018-16251 Filed 7-30-18; 8:45 am]

BILLING CODE 4910-13-P